NATIONAL ARCHIVES AND RECORDS ADMINISTRATION

[NARA-2021-035]

Senior Executive Service (SES) Performance Review Board members

AGENCY: National Archives and Records Administration (NARA).

ACTION: Notice of members.

SUMMARY: I am announcing that I have appointed new members to NARA's Senior Executive Service (SES) Performance Review Board. The board members are: Debra Steidel Wall, Deputy Archivist of the United States; William J. Bosanko, Chief Operating Officer; Micah M. Cheatham, Chief of Management and Administration; and Valorie F. Findlater, Chief Human Capital Officer. These appointments supersede all previous appointments.

DATES: These appointments are effective on July 20, 2021.

ADDRESSES: National Archives and Records Administration, 700 Pennsylvania Avenue NW, Washington, DC 20408.

FOR FURTHER INFORMATION CONTACT: Valorie Findlater, Chief Human Capital Officer, by mail at Office of Human Capital, National Archives and Records Administration; 8601 Adelphi Road; College Park, Maryland 20740, or by telephone at 301.837.3754.

SUPPLEMENTARY INFORMATION: 5 U.S.C. 4314(c) requires each agency to establish, in accordance with regulations prescribed by the Office of Personnel Management, one or more SES Performance Review Boards. The Board reviews a supervisor's initial appraisal of a senior executive's performance and recommends final action to the appointing authority regarding matters related to senior executive performance.

David S. Ferriero,
Archivist of the United States.

[FR Doc. 2021-15319 Filed 7-19-21; 8:45 am]

BILLING CODE 7515-01-P